DEPARTMENT OF ENERGY

Federal Energy Regulatory Commission

Combined Notice of Filings #2

Take notice that the Commission received the following electric corporate filings:

Docket Numbers: EC14-49-000.

Applicants: Twin Eagle Resource Management, LLC, Enserco Energy LLC, GSO Capital Partners LP, Five Point Capital Partners LLC.

Description: Application under FPA Section 203 of Twin Eagle Resource Management, LLC, et. al. under EC14-49.

Filed Date: 1/29/14.

Accession Number: 20140129-5144.

Comments Due: 5 p.m. ET 2/19/14.

Take notice that the Commission received the following electric rate filings:

Docket Numbers: ER10-1819-006; ER10-1820-008; ER10-1817-006; ER10-1818-005.

Applicants: Northern States Power Company, a Minnesota corporaton, Northern States Power Company, a Wisconsin corporation, Southwestern Public Service Company, Public Service Company of Colorado.

Description: Change in Status Report Compliance Filing of the Xcel Energy Inc. subsidiaries.

Filed Date: 1/31/14.

Accession Number: 20140131-5468.

Comments Due: 5 p.m. ET 2/21/14.

Docket Numbers: ER10-3246-002.

Applicants: PacifiCorp.

Description: Additional workpapers in support of the Simultaneous Import Limit analyses submitted with the Triennial Market Power Update.

Filed Date: 1/24/14.

Accession Number: 20140128-0008.

Comments Due: 5 p.m. ET 3/25/14.

Docket Numbers: ER12-953-004.

Applicants: ISO New England Inc.

Description: Compliance Filing ER12-953-002 (Capacity Zones) to be effective 4/1/2014.

Filed Date: 1/31/14.

Accession Number: 20140131-5250.

Comments Due: 5 p.m. ET 2/21/14.

Docket Numbers: ER14-446-001.

Applicants: Commonwealth Edison Company, PJM Interconnection, L.L.C.

Description: ComEd submits compliance filing per 1/2/2014 Order in ER14-446 re SA 3672 to be effective 11/21/2013.

Filed Date: 1/31/14.

Accession Number: 20140131-5091.

Comments Due: 5 p.m. ET 2/21/14.

Docket Numbers: ER14-963-001.

Applicants: TransAlta Wyoming Wind LLC.

Description: Supplement to Notice of Seccussion to MBR Tariff to be effective 1/9/2014.

Filed Date: 1/31/14.

Accession Number: 20140131-5378.

Comments Due: 5 p.m. ET 2/21/14.

Docket Numbers: ER14-1228-000.

Applicants: Southwest Power Pool, Inc.

Description: 2796 KMEA and Sunflower Electric Meter Agent Agreement to be effective 1/1/2014.

Filed Date: 1/31/14.

Accession Number: 20140131-5075.

Comments Due: 5 p.m. ET 2/21/14.

Docket Numbers: ER14-1229-000.

Applicants: NorthWestern Corporation.

Description: SA 28-SD—LGIA with B and H Wind, LLC to be effective 2/1/2014.

Filed Date: 1/31/14.

Accession Number: 20140131-5096.

Comments Due: 5 p.m. ET 2/21/14.

Docket Numbers: ER14-1230-000.

Applicants: Southern California Edison Company.

Description: GIA & Distribution Service Agreement with NRG Solar Oasis, LLC to be effective 2/1/2014.

Filed Date: 1/31/14.

Accession Number: 20140131-5209.

Comments Due: 5 p.m. ET 2/21/14.

Docket Numbers: ER14-1231-000.

Applicants: Midcontinent Independent System Operator, Inc.

Description: 2014-01-31_SA 2328 California Ridge-Ameren Amended GIA (H100) to be effective 2/1/2014.

Filed Date: 1/31/14.

Accession Number: 20140131-5227.

Comments Due: 5 p.m. ET 2/21/14.

Docket Numbers: ER14-1232-000.

Applicants: NV Energy, Inc.

Description: Service Agmt No. 11-00141 NPC-CCWD Network Integration TSA Cancellation to be effective 2/1/2014.

Filed Date: 1/31/14.

Accession Number: 20140131-5252.

Comments Due: 5 p.m. ET 2/21/14.

Docket Numbers: ER14-1233-000.

Applicants: Southwest Power Pool, Inc.

Description: Notice of Cancellation of Letter Agreement between Southwest Power Pool, Inc. and Entergy Services, Inc. of Southwest Power Pool, Inc.

Filed Date: 1/31/14.

Accession Number: 20140131-5303.

Comments Due: 5 p.m. ET 2/21/14.

Docket Numbers: ER14-1234-000.

Applicants: Southwest Power Pool, Inc.

Description: 607R21 Westar Energy, Inc. NITSA NOA to be effective 1/1/2014.

Filed Date: 1/31/14.

Accession Number: 20140131-5412.

Comments Due: 5 p.m. ET 2/21/14.

Docket Numbers: ER14-1235-000.

Applicants: Dairyland Power Cooperative.

Description: Blackstart Service Costs to be effective 4/1/2014.

Filed Date: 1/31/14.

Accession Number: 20140131-5435.

Comments Due: 5 p.m. ET 2/21/14.

Docket Numbers: ER14-1236-000.

Applicants: Elgin Energy Center, LLC.

Description: Notice of Succession to be effective 2/1/2014.

Filed Date: 1/31/14.

Accession Number: 20140131-5453.

Comments Due: 5 p.m. ET 2/21/14.

Docket Numbers: ER14-1237-000.

Applicants: Gibson City Energy Center, LLC.

Description: Notice of Succession to be effective 2/1/2014.

Filed Date: 1/31/14.

Accession Number: 20140131-5459.

Comments Due: 5 p.m. ET 2/21/14.

Docket Numbers: ER14-1238-000.

Applicants: Grand Tower Energy Center, LLC.

Description: Notice of Succession to be effective 2/1/2014.

Filed Date: 1/31/14.

Accession Number: 20140131-5465.

Comments Due: 5 p.m. ET 2/21/14.

Take notice that the Commission received the following electric securities filings:

Docket Numbers: ES14-26-000.

Applicants: ITC Great Plains, LLC.

Description: Application pursuant to Section 204 of the Federal Power Act of ITC Great Plains, LLC for authorization to issue debt securities.

Filed Date: 1/31/14.

Accession Number: 20140131-5432.

Comments Due: 5 p.m. ET 2/21/14.

Docket Numbers: ES14-27-000.

Applicants: International Transmission Company.

Description: Application pursuant to Section 204 of the Federal Power Act of International Transmission Company for authorization to issue debt securities.

Filed Date: 1/31/14.

Accession Number: 20140131-5439.

Comments Due: 5 p.m. ET 2/21/14.

Take notice that the Commission received the following land acquisition reports:

Docket Numbers: LA13-4-000.

Applicants: Lower Mount Bethel Energy, LLC, PPL Brunner Island, LLC, PPL Colstrip I, LLC, PPL Colstrip II, LLC, PPL Electric Utilities Corporation, PPL EnergyPlus, LLC, PPL Ironwood, LLC, PPL Holtwood, LLC, PPL Maine, LLC, PPL Montana, LLC, PPL Montour, LLC, PPL Martins Creek, LLC, PPL New Jersey Biogas, LLC, PPL Renewable Energy, LLC, PPL New Jersey Solar, LLC, PPL Susquehanna, LLC, Louisville Gas and Electric Company, Kentucky Utilities Company, LG&E Energy Marketing Inc., Electric Energy, Inc.

Description: Quarterly Land Acquisition Report of the PPL Companies.

Filed Date: 1/31/14.

Accession Number: 20140131-5198.

Comments Due: 5 p.m. ET 2/21/14.

Docket Numbers: LA13-4-000.

Applicants: NextEra Energy Companies.

Description: Quarterly Land Acquisition Report of the NextEra Energy Companies.

Filed Date: 1/31/14.

Accession Number: 20140131-5440.

Comments Due: 5 p.m. ET 2/21/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2014.
Nathaniel J. Davis, Sr.,
Deputy Secretary.

[FR Doc. 2014-02680 Filed 2-6-14; 8:45 am]

BILLING CODE 6717-01-P